Title 3—

The President

Proclamation 7708 of September 25, 2003

National Farm Safety and Health Week, 2003

By the President of the United States of America

A Proclamation

Almost half of the land in the United States is used for agricultural production, and our Nation depends on our hard-working farm and ranch families for food, fiber, and the good stewardship of our environment. As we celebrate National Farm Safety and Health Week, we give thanks for their dedication, sacrifice, and contributions to our country, and we renew our commitment to the health and livelihoods of American farm and ranch families.

America must continue to promote the safety of our farmers and ranchers. Farming and ranching can be dangerous work; in 2002, the agriculture industry had the second-highest rate of deaths due to accidents. Proper education and training are critical to protecting the safety of farmers and ranchers. By working together to encourage careful use of equipment and facilities, America helps our farm and ranch families remain healthy and more productive than any other farmers in the world.

This year's theme for National Farm Safety and Health Week, “Secure Your Farming through Safety and Health,” also encourages farmers and ranchers to focus on farm security issues. Farm and ranching communities play a vital role in protecting America's food supplies, water resources, and farm chemicals. Their efforts are important to the safety and security of our citizens.

NOW, THEREFORE, I, GEORGE W. BUSH, President of the United States of America, by virtue of the authority vested in me by the Constitution and laws of the United States, do hereby proclaim September 21 through September 27, 2003, as National Farm Safety and Health Week. I call upon the agencies, organizations, and businesses that serve America's agricultural workers to strengthen their commitment to promoting farm safety and health programs. I also urge all Americans to honor our agricultural heritage and to recognize our farmers and ranchers for their remarkable contributions to our Nation's vitality and prosperity.

IN WITNESS WHEREOF, I have hereunto set my hand this twenty-fifth day of September, in the year of our Lord two thousand three, and of the Independence of the United States of America the two hundred and twenty-eighth.

B

[FR Doc. 03-24917

Filed 9-29-03; 8:45 am]

Billing code 3195-01-P